DEPARTMENT OF THE INTERIOR

Fish and Wildlife Service

[FWS-R2-ES-2010-N100; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before July 1, 2010.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-02368A

Applicant: Andrea Chavez, Albuquerque, New Mexico.

Applicant requests a new permit for research and recovery purposes to conduct presence/absence surveys for southwestern willow flycatcher (Empidonax taillii extimus) within New Mexico.

Permit TE-172278

Applicant: John Abbott, Austin, Texas.

Applicant requests an amendment to a current permit for research and recovery purposes to conduct presence/absence surveys and genetic sampling for American burying beetle (Nicrophorus americanus) within Oklahoma.

Permit TE-10794A

Applicant: Robert Steidl, Tucson, Arizona.

Applicant requests a new permit for research and recovery purposes to conduct presence/absence surveys for lesser long-nosed bat (Leptonycteris yerbabuenae) within Arizona.

Permit TE-10808A

Applicant: Sorola Natural Resources Consulting, LLC, Del Rio, Texas.

Applicant requests a new permit for research and recovery purposes to conduct presence/absence surveys for golden-cheeked warbler (Dendroica chrysoparia), black-capped vireo (Vireo atricapilla), Tobusch fishhook cactus (Sclerocactus brevihaatus tobuschii), and Texas snowbells (Styrax platanifolius) within Texas.

Permit TE-021340

Applicant: HDR Engineering, Phoenix, Arizona.

Applicant requests an amendment to a current permit for research and recovery purposes to conduct presence/absence surveys for southwestern willow flycatcher (Empidonax taillii extimus) within Texas.

Permit TE-11152A

Applicant: Fort Defiance Branch of Natural Resources, Fort Defiance, Arizona.

Applicant requests a new permit for research and recovery purposes to conduct presence/absence surveys for southwestern willow flycatcher (Empidonax taillii extimus) within Arizona and New Mexico.

Permit TE-212896

Applicant: University of Florida, Gainesville, Florida.

Applicant requests an amendment to a current permit to allow lethal take of a limited number of humpback chub (Gila cypha) within Arizona.

Permit TE-001623

Applicant: American Southwest Ichthyological Researchers, LLC, Albuquerque, New Mexico.

Applicant requests an amendment to their current permit to conduct population monitoring, spawning activities, and downstream transport studies for Colorado pikeminnow (Ptychochelius lucius) and razorback sucker (Xyrauchen texanus) in the San Juan River Basin, New Mexico.

Permit TE-13192A

Applicant: AMEC Earth and Environmental, Inc., Albuquerque, New Mexico.

Applicant requests a new permit for research and recovery purposes to monitor the Alamosa springsnail (Tryonia alamosae) in Socorro County, New Mexico.

Authority: 16 U.S.C. 1531 et seq.

Dated: May 21, 2010.
Thomas L. Bauer,
Regional Director, Southwest Region, Fish and Wildlife Service.

[FR Doc. 2010-13013 Filed 5-28-10; 8:45 am]

BILLING CODE 4310-55-P